DEPARTMENT OF ENERGY

Federal Energy Regulatory Commission

[Docket No. EG03-33-000]

Wellco Services, Inc.; Notice of Application for Commission Determination of Exempt Wholesale Generator Status

December 31, 2002.

Take notice that on December 26, 2002, Wellco Services, Inc., a California corporation (Applicant), with its principal executive office at 650 Bercut Drive, Suite C, Sacramento, California 95814, filed with the Federal Energy Regulatory Commission (Commission) an application for determination of exempt wholesale generator (EWG) status pursuant to part 365 of the Commission's Regulations and Section 32 of the Public Utility Holding Company Act of 1935, as amended.

Applicant states it will be engaged directly and exclusively in the business of operating several eligible facilities and will satisfy the obligation of selling electric energy at wholesale through its contractual relationship with the owners of such eligible facilities which sell electric energy exclusively at wholesale.

Applicant states that copies of the application have been served upon the California Public Utility Commission and the Securities and Exchange Commission.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: January 21, 2003.

Linwood A. Watson, Jr.,
Deputy Secretary.

[FR Doc. 03-229 Filed 1-3-03; 8:45 am]

BILLING CODE 6717-01-P